FEDERAL MARITIME COMMISSION

[Petition No. P1-14]

Petition of United Arab Shipping Company (S.A.G.) for an Exemption From 46 U.S.C. 40703; Notice of Filing and Request for Comments

Notice is hereby given that United Arab Shipping Company (S.A.G.) (“Petitioner”), has petitioned the Commission pursuant to Section 16 of the Shipping Act of 1984, 46 U.S.C. 40103, and 46 CFR 502.76 of the Commission's Rules of Practice and Procedure, for an exemption from 46 U.S.C. 40703. Petitioner is an ocean common carrier currently providing container service to the U.S. trades. Petitioner was established in 1976 by the governments of the United Arab Emirates, the Kingdom of Bahrain, the Kingdom of Saudi Arabia, the Republic of Iraq, the State of Qatar, and the State of Kuwait. None of the government shareholders had a majority interest until recently when Petitioner alleges that Qatar attained a 51.27 percentage ownership control in the company. A controlled carrier is defined under 46 U.S.C. 40102(8):

“The term `controlled carrier' means an ocean common carrier that is, or whose operating assets are, directly or indirectly, owned or controlled by a government, with ownership or control by a government being deemed to exist for a carrier if—(A) a majority of the interest in the carrier is owned or controlled in any manner by that government, an agency of that government, or a public or private person controlled by that government; or (B) that government has the right to appoint or disapprove the appointment of a majority of the directors, the chief operating officer, or the chief executive officer of the carrier.” 46 U.S.C. 40102(8).

Petitioner alleges that it is a controlled carrier as defined by the Shipping Act and subject to the requirements laid out in 46 U.S.C. 40701—40706.

Petitioner seeks an exemption from 46 U.S.C. 40703, so that it can lawfully reduce its tariff rates, charges, classifications, rules or regulations effective upon publication. Petitioner also notes that the requested relief, if granted, will permit it to operate in the U.S. trades on the same terms available to other ocean common carriers, including many controlled carriers that have previously been granted similar relief.

In order for the Commission to make a thorough evaluation of the exemption requested in the Petition, interested parties are requested to submit views or arguments in reply to the Petition no later than August 8, 2014. Replies shall be sent to the Secretary, Federal Maritime Commission, 800 North Capitol Street NW., Washington, DC 20573-0001, or emailed to Secretary@fmc.gov, and be served on Petitioner's counsel, Wayne Rohde, Esq., and Jawaria Gilani, Esq., Cozen O'Connor, 1627 I Street NW., Washington, DC 20006.

If the reply contains confidential information, the confidential filing should not be submitted by email. A confidential filing must be submitted to the Secretary in hard copy only, and be accompanied by a transmittal letter that identifies the filing as “Confidential-Restricted” and describes the nature and extent of the confidential treatment requested. The material for which confidentiality is claimed should be clearly marked on each page. A public version must also be filed that excludes the confidential materials, and must indicate on the cover page and on each affected page “Confidential materials excluded.” The Commission will provide confidential treatment to the extent allowed by law for confidential submissions, or parts of submissions, for which confidentiality has been requested. The Petition will be posted on the Commission's Web site at http://www.fmc.gov/reading/Petitions.asp. Replies filed in response to the Petition will also be posted on the Commission's Web site at this location.

Karen V. Gregory,
Secretary.

[FR Doc. 2014-17391 Filed 7-23-14; 8:45 am]

BILLING CODE 6730-01-P